DEPARTMENT OF ENERGY

Federal Energy Regulatory Commission

Combined Notice of Filings

Take notice that the Commission has received the following Natural Gas Pipeline Rate and Refund Report filings:

Filings Instituting Proceedings

Docket Numbers: RP13-262-000.

Applicants: Rockies Express Pipeline LLC.

Description: NAESB 2.0 Compliance to be effective 12/1/2012.

Filed Date: 11/7/12.

Accession Number: 20121107-5051.

Comments Due: 5 p.m. ET 11/19/12.

Docket Numbers: RP13-263-000.

Applicants: Questar Southern Trails Pipeline Company.

Description: Order 587-V revised section 28 to be effective 12/1/2012.

Filed Date: 11/7/12.

Accession Number: 20121107-5084.

Comments Due: 5 p.m. ET 11/19/12.

Docket Numbers: RP13-265-000.

Applicants: Gulf South Pipeline Company, LP.

Description: Revise Destin Fuel Rate Reference filing to be effective 12/1/2012.

Filed Date: 11/8/12.

Accession Number: 20121108-5019.

Comments Due: 5 p.m. ET 11/20/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-102-002.

Applicants: Northwest Pipeline GP.

Description: NWP NAESB 2.0 Compliance Filing—Second Substitute Sheet to be effective 12/1/2012.

Filed Date: 11/6/12.

Accession Number: 20121106-5132.

Comments Due: 5 p.m. ET 11/14/12.

Docket Numbers: RP13-169-001.

Applicants: El Paso Natural Gas Company, L.L.C.

Description: Non-Conforming Agreement Amendment to be effective 10/25/2012.

Filed Date: 11/6/12.

Accession Number: 20121106-5066.

Comments Due: 5 p.m. ET 11/19/12.

Any person desiring to protest in any the above proceedings must file in accordance with Rule 211 of the Commission's Regulations (18 CFR § 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: November 8, 2012.
Nathaniel J. Davis, Sr.,
Deputy Secretary.

[FR Doc. 2012-27890 Filed 11-15-12; 8:45 am]

BILLING CODE 6717-01-P